DEPARTMENT OF THE INTERIOR

Bureau of Indian Affairs

[256A2100DD/AAKC001030/A0A501010.000000]

Indian Gaming; Approval of the Snoqualmie Indian Tribe and the State of Washington Class III Gaming Compact Amendment

AGENCY: Bureau of Indian Affairs, Interior.

ACTION: Notice.

SUMMARY: The Assistant Secretary for Indian Affairs approves the Memorandum of Incorporation of Most Favored Nation Amendments to the Tribal-State Compact for Class III Gaming between the Snoqualmie Indian Tribe and the State of Washington governing the operation and regulation of class III gaming activities. The Amendment permits electronic table gaming.

DATES: The amendment takes effect on September 12, 2025.

FOR FURTHER INFORMATION CONTACT: Mr. Troy Woodward, Acting Director, Office of Indian Gaming, Office of the Assistant Secretary—Indian Affairs, Washington, DC 20240, IndianGaming@bia.gov; (202) 219-4066.

SUPPLEMENTARY INFORMATION: The Indian Gaming Regulatory Act of 1988, 25 U.S.C. 2701 et seq., (IGRA) provides the Secretary of the Interior (Secretary) with 45 days to review and approve or disapprove the Tribal-State compact governing the conduct of class III gaming activity on the Tribe's Indian lands. See 25 U.S.C. 2710(d)(8). If the Secretary does not approve or disapprove a Tribal-State compact within the 45 days, IGRA provides the Tribal-State compact is considered to have been approved by the Secretary, but only to the extent the compact is consistent with IGRA. See 25 U.S.C. 2710(d)(8)(D). The IGRA also requires the Secretary to publish in the Federal Register notice of the approved Tribal-State compacts for the purpose of engaging in class III gaming activities on Indian lands. See 25 U.S.C. (d)(8)(D). As required by 25 CFR 293.4, all compacts and amendments are subject to review and approval by the Secretary. The Amendment permits electronic table gaming. The Amendment is approved.

Janel C. Broderick,
Principal Deputy Assistant Secretary—Indian Affairs, Exercising the delegated authority of the Assistant Secretary—Indian Affairs.

[FR Doc. 2025-17697 Filed 9-11-25; 8:45 am]

BILLING CODE 4337-15-P